DEPARTMENT OF THE INTERIOR

Bureau of Indian Affairs

[190A2100DD/AAKC001030/A0A501010.999900 253G; OMB Control Number 1076-0162]

Agency Information Collection Activities; Submission to the Office of Management and Budget for Review and Approval; Navajo Partitioned Lands Grazing Permits

AGENCY: Bureau of Indian Affairs, Interior.

ACTION: Notice of information collection; request for comment.

SUMMARY: In accordance with the Paperwork Reduction Act of 1995, we, the Bureau of Indian Affairs (BIA) are proposing to renew an information collection with revisions.

DATES: Interested persons are invited to submit comments on or before July 26, 2019.

ADDRESSES: Send written comments on this information collection request (ICR) to the Office of Management and Budget's Desk Officer for the Department of the Interior by email at OIRA_Submission@omb.eop.gov; or via facsimile to (202) 395-5806. Please provide a copy of your comments to Calvert L. Curley, Office of Trust Services, Branch of Natural Resources, P.O. Box 1060, Gallup, New Mexico 87105; telephone: (505) 863-8221; email: calvert.curley@bia.gov. Please reference OMB Control Number 1076-0176 in the subject line of your comments.

FOR FURTHER INFORMATION CONTACT: To request additional information about this ICR, Calvert L. Curley at telephone: (505) 863-8204, or email: calvert.curley@bia.gov. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on November 15, 2018 (83 FR 57502). No comments were received in response to this Federal Register notice.

We are again soliciting comments on the proposed ICR that is described below. We are especially interested in public comment addressing the following issues: (1) Is the collection necessary to the proper functions of the BIA; (2) will this information be processed and used in a timely manner; (3) is the estimate of burden accurate; (4) how might the BIA enhance the quality, utility, and clarity of the information to be collected; and (5) how might the BIA minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: This information collection is authorized under 25 CFR 161, which implements the Navajo-Hopi Indian Relocation Amendments Act of 1980, 94 Stat. 929, and the Federal court decisions of Healing v. Jones, 174 F. Supp.211 (D Ariz. 1959) (Healing I), Healing v. Jones, 210 F. Supp. 126 (D. Ariz. 1962), aff'd 363 U.S. 758 (1963) (Healing II), Hopi Tribe v. Watt, 530 F. Supp. 1217 (D. Ariz. 1982), and Hopi Tribe v. Watt, 719 F.2d 314 (9th Cir. 1983).

This information collection allows BIA to receive the information necessary to determine whether an applicant to obtain, modify, or assign a grazing permit on Navajo Partitioned Lands is eligible and complies with all applicable grazing permit requirements. BIA, in coordination with the Navajo Nation, will continue to collect grazing permit information up to and beyond the initial reissuing of the grazing permits, likely within a 1-3 year time period from the date of publication of this notice. The data is collected by electronic global positioning systems and field office interviews by BIA & Navajo Nation staff. The data is maintained by BIA's Navajo Partitioned Lands office.

Title of Collection: Navajo Partitioned Lands Grazing Permits.

OMB Control Number: 1076-0162.

Form Number: 5-5015 and 5-5022.

Type of Review: Revision of a currently approved collection.

Respondents/Affected Public: Tribes, Tribal organizations, and individual Indians.

Total Estimated Number of Annual Respondents: 700.

Total Estimated Number of Annual Responses: 3,121.

Estimated Completion Time per Response: Varies from 15 minutes to 2 hours.

Total Estimated Number of Annual Burden Hours: 2,123.

Respondent's Obligation: Required to Obtain a Benefit.

Frequency of Collection: Annually.

Total Estimated Annual Nonhour Burden Cost: $0.

An agency may not conduct or sponsor and a person is not required to respond to a collection of information unless it displays a currently valid OMB control number.

The authority for this action is the Paperwork Reduction Act of 1995 (44 U.S.C. 3501 et seq).

Elizabeth K. Appel,
Director, Office of Regulatory Affairs and Collaborative Action—Indian Affairs.

[FR Doc. 2019-13508 Filed 6-25-19; 8:45 am]

BILLING CODE 4337-15-P